NUCLEAR REGULATORY COMMISSION

[Docket No. 030-03754]

Notice of Finding of No Significant Impact and Availability of Environmental Assessment for License Amendment of Materials License No. 31-02892-06, VA Medical Center in Brooklyn, NY

AGENCY: Nuclear Regulatory Commission.

ACTION: Notice of availability of environmental assessment and finding of no significant impact.

FOR FURTHER INFORMATION CONTACT: John R. Wray, Decommissioning and Laboratory Branch, Division of Nuclear Materials Safety, Region I, 475 Allendale Road, King of Prussia, Pennsylvania, 19406. Telephone (610) 337-5268; Fax (610) 337-5269; and/or by e-mail: JRW3@nrc.gov.

SUPPLEMENTARY INFORMATION:

I. Introduction

The U.S. Nuclear Regulatory Commission (NRC) is considering the issuance of a license amendment to the VA Medical Center in Brooklyn for Materials License No. 31-02892-06, to authorize release of its facility at the St. Albans Extended Care Center in Queens, New York, for unrestricted use and has prepared an Environmental Assessment (EA) in support of this action in accordance with the requirements of 10 CFR part 51. Based on the EA, the NRC has concluded that a Finding of No Significant Impact (FONSI) is appropriate.

II. EA Summary

The purpose of the proposed action is to allow for the release of the licensee's St. Albans Extended Care Center facility for unrestricted use. The VA Medical Center in Brooklyn was authorized by NRC on August 20, 1998, to possess radioactive materials for decommissioning purposes at the site. On May 15, 2003, the VA Medical Center in Brooklyn requested that NRC release the facility for unrestricted use. The VA Medical Center in Brooklyn has conducted surveys of the facility and determined that the facility meets the license termination criteria in subpart E of 10 CFR part 20.

III. Finding of No Significant Impact

The NRC staff has evaluated the request from the VA Medical Center in Brooklyn and the results of the surveys and has concluded that the completed action complies with 10 CFR part 20. The staff has prepared the EA (summarized above) in support of the proposed license amendment to terminate the license and release the facility for unrestricted use. On the basis of the EA, NRC has concluded that the environmental impacts from the proposed action are expected to be insignificant and has determined not to prepare an environmental impact statement for the proposed action.

IV. Further Information

The EA and the documents related to this proposed action, including the application for the license amendment and supporting documentation, are available for inspection at NRC's Public Electronic Reading Room at http://www.nrc.gov/reading-rm/adams.html (ADAMS Accession No. ML032380112).

Dated at King of Prussia, Pennsylvania, this 26th day of August, 2003.
For The Nuclear Regulatory Commission.
Ronald R. Bellamy,
Chief, Decommissioning and Laboratory Branch, Division of Nuclear Materials Safety, Region I.

[FR Doc. 03-22717 Filed 9-5-03; 8:45 am]

BILLING CODE 7590-01-P